DEPARTMENT OF HOMELAND SECURITY

Coast Guard

[Docket No. USCG-2021-0242]

Great Lakes Pilotage Advisory Committee Meeting

AGENCY: U.S. Coast Guard, Department of Homeland Security.

ACTION: Notice of Federal Advisory Committee Meeting.

SUMMARY: The Great Lakes Pilotage Advisory Committee (Committee) will meet in Cape Vincent, New York, to discuss matters relating to Great Lakes pilotage, including review of proposed Great Lakes pilotage regulations and policies. The meeting will be open to the public.

DATES:

Meeting: The Committee will meet on Wednesday, September 1, 2021, from 8 a.m. to 5:30 p.m. Eastern Daylight Time. Please note that this meeting may adjourn early if the Committee has completed its business.

Comments and supporting documentations: To ensure your comments are received by Committee members before the meeting, submit your written comments no later than August 24, 2021.

ADDRESSES: The meeting will be held at the Saint Lawrence Seaway Pilots' Association conference facility, 230 N Point Street, Cape Vincent, NY 13618.

Pre-registration Information: Pre-registration is not required for access. Attendees will be required to follow as closely as possible COVID-19 safety guidelines promulgated by the Centers for Disease Control and Prevention (CDC), which includes vaccinated persons do not need to wear masks. Masks will be provided for non-vaccinated attendees. Some CDC guidance is here: https://www.cdc.gov/coronavirus/2019-ncov/communication/guidance.html

For information on facilities or services for individuals with disabilities or to request special assistance at the meeting, contact the individual listed in the FOR FURTHER INFORMATION CONTACT section of this notice.

Instructions: You are free to submit comments at any time, including orally at the meeting, but if you want Committee members to review your comment before the meeting, please submit your comments no later than August 24, 2021. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the words “Department of Homeland Security” and the docket number USCG-2021-0242. Comments received will be posted without alteration at https://www.regulations.gov, including any personal information provided. You may wish to view the Privacy and Security Notice available on the homepage of www.regulations.gov, and DHS's eRulemaking System of Records notice (85FR 14226, March 11, 2020). If you encounter technical difficulties with comment submission, contact the individual listed in the FOR FURTHER INFORMATION CONTACT section of this notice.

Docket Search: Documents mentioned in this notice as being available in the docket, and all public comment, will be in our online docket at https://www.regulations.gov and can be viewed by following that website's instructions. Additionally, if you go to the online docket and sign-up for email alerts, you will be notified when comments are posted.

FOR FURTHER INFORMATION CONTACT: Mr. Vincent Berg, Alternate Designated Federal Officer of the Great Lakes Pilotage Advisory Committee, telephone (202) 906-0835, or email Vincent.F.Berg@uscg.mil.

SUPPLEMENTARY INFORMATION: Notice of this meeting is in compliance with the Federal Advisory Committee Act (5 U.S.C. Appendix). The Great Lakes Pilotage Advisory Committee is established under the authority of 46 U.S.C. 9307, and makes recommendations to the Secretary of Homeland Security and the Coast Guard on matters relating to Great Lakes pilotage, including review of proposed Great Lakes pilotage regulations and policies.

Agenda: The Great Lakes Pilotage Advisory Committee will meet on Wednesday, September 1, 2021 to review, discuss, deliberate and formulate recommendations, as appropriate on the following topics:

1. Status of Committee member's terms and appointments.

2. Individual pilot compensation reporting.

3. Port of Toledo.

4. Method of expensing major capital assets.

5. Efficiency—delays and double pilotage.

6. Pilotage fees during winter work.

7. Cruise ships and Canadian tankers.

8. Ojibway anchorage.

9. Pilot Association project and updates.

10. Stakeholder Outreach.

11. Public Comments.

A copy of all meeting documentation will be available at https://www.dco.uscg.mil/Our-Organization/Assistant-Commandant-for-Prevention-Policy-CG-5P/Marine-Transportation-Systems-CG-5PW/Office-of-Waterways-and-Ocean-Policy/Great-Lakes-Pilotage-Advisory-Committee/ by August 24, 2021. Alternatively, you may contact Mr. Vincent Berg as noted in the FOR FURTHER INFORMATION CONTACT section above.

Public comments or questions will be taken throughout the meeting as the Committee discusses the issues and prior to deliberations and voting. There will also be a public comment period at the end of the meeting. Speakers are requested to limit their comments to 5 minutes. Please note that the public comment period will end following the last call for comments. Contact the individual listed in the FOR FURTHER INFORMATION CONTACT section above, to register as a speaker.

Dated: July 27, 2021.
Michael D. Emerson,
Director, Marine Transportation Systems.

[FR Doc. 2021-16299 Filed 7-29-21; 8:45 am]

BILLING CODE 9110-04-P